SOCIAL SECURITY ADMINISTRATION

20 CFR Parts 401 and 402

[Docket No. SSA-2007-0067]

RIN 0960-AG14

Privacy and Disclosure of Official Records and Information

AGENCY: Social Security Administration (SSA).

ACTION: Final rule.

SUMMARY: We are issuing this final rule to adopt without change the final rules with request for comment published on December 10, 2007, at 72 FR 69616. This final rule amends the regulation at 20 CFR Part 401, Appendix A, which requires us to release an employee's location of duty station upon request. This final rule also revises the regulation at 20 CFR 402.45 that describes the availability of records.

DATES: Effective Date: This rule is effective May 7, 2008.

FOR FURTHER INFORMATION CONTACT: Edie McCracken, Social Insurance Specialist, Office of Public Disclosure, 3-A-6 Operations Building, 6401 Security Boulevard, Baltimore, MD 21235-6401, (410) 965-6117. For information on eligibility or filing for benefits, call our national toll-free numbers, 1-800-772-1213 or TTY 1-800-325-0778, or visit our Internet Web site, Social Security Online, at http://www.socialsecurity.gov.

SUPPLEMENTARY INFORMATION:

Electronic Version

The electronic file of this document is available on the date of publication in the Federal Register at http://www.gpoaccess.gov/fr/index.html.

Background

We are implementing a nationwide program to enhance the safety and security of our employees who are victims, or potential victims, of domestic violence. In order to safeguard their anonymity we will not disclose their work location and/or phone number to individuals who pose a threat to their personal safety. This final rule will strengthen our privacy and disclosure rules to better safeguard at-risk employees by amending 20 CFR Part 401, Appendix A (c)(4) to remove the sentence, “Location of duty station, including room number and telephone number.” We are also revising 20 CFR 402.45 to add a new paragraph (e) describing the rules governing the release of personally identifiable information. The changes in our rule will allow us to implement the Identity Protection Program (IPP). The IPP enhances the safety and security of our employees who reasonably believe that they are at risk of injury or other harm if certain employment information about them is disclosed. As it is a national program, the IPP ensures uniform application of the policy for at-risk employees.

Public Comments

The final rule with request for public comments that was published on December 10, 2007, and effective January 9, 2008, provided the public with a 60-day comment period. We received no comments.

Regulatory Procedures

Executive Order 12866, as Amended

We have consulted with the Office of Management and Budget (OMB) and determined that this final rule does not meet the criteria for a significant regulatory action under Executive Order (E.O.) 12866, as amended. Thus, it is not subject to OMB review.

Regulatory Flexibility Act

We certify that this final rule does not have a significant economic impact on a substantial number of small entities because it affects individuals. Thus, a regulatory flexibility analysis as provided in the Regulatory Flexibility Act, as amended, is not required.

Paperwork Reduction Act

This final rule imposes no reporting or record keeping requirements subject to OMB clearance.

(Catalog of Federal Domestic Assistance Program Nos. 96.001, Social Security—Disability Insurance; 96.002, Social Security—Retirement Insurance; 96.004, Social Security—Survivors Insurance; 96.006, Supplemental Security Income)

List of Subjects 20 CFR Parts 401 and 402

Administrative practice and procedure, Freedom of information, Privacy.

Dated: April 30, 2008.
Michael J. Astrue,
Commissioner of Social Security.

Accordingly, the final rule with request for comments, amending parts 401 and 402 of chapter III of title 20 of the Code of Federal Regulations that was published at 72 FR 69616 on December 10, 2007, is adopted as a final rule without change.

[FR Doc. E8-9998 Filed 5-6-08; 8:45 am]

BILLING CODE 4191-02-P